DEPARTMENT OF HOMELAND SECURITY

Bureau of Customs and Border Protection

19 CFR Part 101

[USCBP 2005-0035]

Extension of Port Limits of St. Louis, MO

AGENCY: Customs and Border Protection, Department of Homeland Security.

ACTION: Notice of proposed rulemaking.

SUMMARY: This document proposes to amend the Department of Homeland Security (DHS) Regulations pertaining to the field organization of the Bureau of Customs and Border Protection (CBP) by extending the geographical limits of the port of St. Louis, Missouri, to include the entire Lambert-St. Louis International Airport after the completion of its ongoing expansion. The expansion of the airport is expected to be complete by March 2006. The extension would also modify the geographic description of the port of St. Louis, Missouri, to align the port boundaries with the Federal Interstate Highways that encircle the St. Louis metropolitan area. The proposed change is part of CBP's continuing program to more efficiently utilize its personnel, facilities, and resources, and to provide better service to carriers, importers, and the general public.

DATES: Comments must be received on or before October 16, 2006.

ADDRESSES: You may submit comments, identified by docket number, by one of the following methods:

• Federal eRulemaking Portal: http://www.regulations.gov. Follow the instructions for submitting comments via docket number USCBP-2005-0035.

• Mail: Border Security Regulations Branch, Office of Regulations and Rulings, Bureau of Customs and Border Protection, 1300 Pennsylvania Avenue, NW. (Mint Annex), Washington, DC 20229.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected during regular business days between the hours of 9 a.m. and 4:30 p.m. at the Office of Regulations and Rulings, Bureau of Customs and Border Protection, 799 9th Street, NW., 5th Floor, Washington, DC. Arrangements to inspect submitted comments should be made in advance by calling Mr. Joseph Clark at (202) 572-8768.

FOR FURTHER INFORMATION CONTACT: Dennis Dore, Office of Field Operations, 202-344-2776.

SUPPLEMENTARY INFORMATION:

Background

As part of its continuing efforts to provide better service to carriers, importers, and the general public, the Bureau of Customs and Border Protection (CBP), of the Department of Homeland Security (DHS), is proposing to extend the port boundaries for the port of entry at St. Louis, Missouri.

The Lambert-St. Louis International Airport is currently located within the boundaries of the St. Louis, Missouri, port of entry. However, the airport has initiated an expansion project, which, when completed, will place part of the airport outside of the port's current boundaries. The expansion is expected to be complete by March 2006. In order to accommodate the entire airport and to make the boundaries more easily identifiable to the public, CBP is proposing to extend the port limits of the port of St. Louis, Missouri, in such a way that will align the port boundaries with the Federal Interstate Highways that encircle the St. Louis metropolitan area. CBP has determined that this proposed change in the boundaries of the port of St. Louis, Missouri, will not result in a change in the service that is provided to the public by the port, nor will it require a change in the staffing or workload at the port.

Current Port Limits of St. Louis, Missouri

The current port limits of St. Louis, Missouri, are described as follows in Treasury Decision (T.D.) 69-224 of September 27, 1969:

Beginning at a point where Federal Interstate Highway 270 crosses the Mississippi River; thence west along Federal Interstate Highway 270 to a point where this highway and State Highway 140 intersect; thence south along State Highway 140 to a point just north of where this highway intersects with State Highway 100 and becomes U.S. Highway 61; thence continuing in a south and southeasterly direction along U.S. Highway 61 across the Mississippi River to a point where this highway and State Highway 3 intersect; thence south along State Highway 3 to a point where this highway and State Highway 158 intersect; thence in a northeasterly direction along State Highway 158 to a point where this highway and State Highway 159 intersect; thence north along State Highway 159 to a point where this highway and Federal Interstate Highway 270 intersect; thence west along Federal Interstate Highway 270 to the Mississippi River, the point of beginning.

Proposed Port Limits of St. Louis, Missouri

The new port limits of St. Louis, Missouri, are proposed as follows:

Beginning at the point where Federal Interstate Highway 270 crosses the Mississippi River; thence west, southwest, south and southeast, along Federal Interstate Highway 270 to the point where it becomes Federal Interstate Highway 255; thence southeast on Federal Interstate Highway 255 across the Mississippi River; thence north and east to the point where Federal Interstate Highway 255 intersects with Federal Interstate Highway 270; thence west along Federal Interstate Highway 270 to the Mississippi River, the point of beginning.

Proposed Amendment to Regulations

If the proposed port limits are adopted, CBP will amend the list of CBP ports of entry at 19 CFR section 101.3(b)(1), to reflect the new description of the limits of the St. Louis, Missouri, port of entry.

Public Participation

Interested persons are invited to participate in this rulemaking by submitting written data, views, or arguments on all aspects of the proposed rule. CBP also invites comments that relate to the economic, environmental, or federalism affects that might result from this proposed rule. Comments that will provide the most assistance to CBP will reference a specific portion of the proposed rule, explain the reason for any recommended change, and include data, information, or authority that support such recommended change.

Authority

This change is proposed under the authority of 5 U.S.C. 301 and 19 U.S.C. 2, 66 and 1624, and the Homeland Security Act of 2002, Public Law 107-296 (November 25, 2002).

Signing Authority

The signing authority for this document falls under 19 CFR 0.2(a) because this port extension is not within the bounds of those regulations for which the Secretary of the Treasury has retained sole authority. Accordingly, the notice of proposed rulemaking may be signed by the Secretary of Homeland Security (or his or her delegate).

The Regulatory Flexibility Act and Executive Order 12866

With DHS approval, CBP establishes, expands and consolidates CBP ports of entry throughout the United States to accommodate the volume of CBP-related activity in various parts of the country. The Office of Management and Budget has determined that this regulatory proposal is not a significant regulatory action as defined under Executive Order 12866. This proposed rule also will not have significant economic impact on a substantial number of small entities.

Accordingly, it is certified that this document is not subject to the additional requirements of the provisions of the Regulatory Flexibility Act (5 U.S.C. 601 et seq.).

Michael Chertoff,
Secretary.

[FR Doc. E6-13446 Filed 8-15-06; 8:45 am]

BILLING CODE 9111-14-P